NUCLEAR REGULATORY COMMISSION

[Docket Nos. 50-352 and 50-353; NRC-2011-0166]

Exelon Generation Company, LLC; Limerick Generating Station, Units 1 and 2

AGENCY: Nuclear Regulatory Commission.

ACTION: Final supplement 49 to the generic environmental impact statement for license renewal of nuclear plants; availability.

SUMMARY: Notice is hereby given that the U.S. Nuclear Regulatory Commission (NRC) has published a final plant-specific supplement to the Generic Environmental Impact Statement for License Renewal of Nuclear Plants (GEIS), NUREG-1437, regarding the renewal of Operating Licenses NPF-39 and NPF-85 for an additional 20 years of operation for Limerick Generating Station, Units 1 and 2 (LGS). The LGS site is located in Pottstown, PA. Possible alternatives to the proposed action (license renewal) include no action and reasonable alternative energy sources.

DATES: The final supplement is available as of September 4, 2014.

ADDRESSES: Please refer to Docket ID NRC-2011-0166 when contacting the NRC about the availability of information regarding this document. You may obtain publicly-available information related to this document using any of the following methods:

• Federal Rulemaking Web site: Go to http://www.regulations.gov and search for Docket ID NRC-2011-0166. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession numbers for the final Supplement 49 to the GEIS are ML14238A284 and ML14238A290.

• NRC's PDR: You may examine and purchase copies of public documents at the NRC's PDR, Room O1-F21, One White Flint North, 11555 Rockville Pike, Rockville, Maryland 20852.

• In addition, the Pottstown Regional Public Library, 500 East High Street, Pottstown, PA 19464-5656, has agreed to make the final supplement available for public inspection.

FOR FURTHER INFORMATION CONTACT: Leslie Perkins, Office of Nuclear Reactor Regulation, telephone: 800-368-5692, ext. 2375, email: Leslie.Perkins@nrcgov, U.S. Nuclear Regulatory Commission, Washington, DC 20555-0001.

SUPPLEMENTARY INFORMATION: As discussed in Section 9.3 of the final supplement, the staff determined that the adverse environmental impacts of license renewal for LGS are not so great that preserving the option of license renewal for energy-planning decisionmakers would be unreasonable. This recommendation is based on: (1) The analysis and findings in the GEIS; (2) information provided in the environmental report and other documents submitted by Exelon Generation Company, LLC; (3) consultation with Federal, state, local, and Tribal agencies; (4) the NRC staff's independent environmental review; and (5) consideration of public comments received during the scoping process and on the draft Supplemental Environmental Impact Statement.

Dated at Rockville, Maryland, this 27th day of August, 2014.
For The Nuclear Regulatory Commission.
Brian Wittick,
Chief, Reactor Projects Branch 2, Division of License Renewal, Office of Nuclear Reactor Regulation.

[FR Doc. 2014-21116 Filed 9-3-14; 8:45 am]

BILLING CODE 7590-01-P